OFFICE OF PERSONNEL MANAGEMENT

Excepted Service; December 2017

AGENCY: U.S. Office of Personnel Management (OPM).

ACTION: Notice.

SUMMARY: This notice identifies Schedule A, B, and C appointing authorities applicable to a single agency that were established or revoked from December 1, 2017 to December 31, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A Authorities to report during December 2017.

Schedule B

No schedule B Authorities to report during December 2017.

Schedule C

The following Schedule C appointing authorities were approved during December 2017.

Agency name | Organization name | Position title | Authorization No. | Effective date
DEPARTMENT OF AGRICULTURE | Office of Rural Housing Service | Chief of Staff | DA180055 | 12/05/2017
| Office of the Secretary | Director, Tribal Relations | DA180096 | 12/05/2017
|  | Director of the Office of Faith Based and Neighborhood Outreach | DA180101 | 12/21/2017
| Office of the General Counsel | Senior Counsel | DA180098 | 12/08/2017
| Office of the Assistant to the Secretary for Rural Development | Chief of Staff | DA180100 | 12/15/2017
DEPARTMENT OF COMMERCE | Office of Director General of the United States and Foreign Commercial Service and Assistant Secretary for Global Markets | Senior Advisor for China | DC180063 | 12/15/2017
| Office of Under Secretary | Policy Advisor | DC180053 | 12/20/2017
|  | Special Advisor | DC180055 | 12/20/2017
DEPARTMENT OF DEFENSE | Office of the Under Secretary of Defense (Policy) | Special Assistant (Europe and North Atlantic Treaty Organization) | DD180024 | 12/15/2017
|  | Special Assistant for Policy | DD180026 | 12/15/2017
| Office of the Secretary of Defense | Advance Officer | DD180027 | 12/20/2017
| Office of the Assistant Secretary of Defense (Special Operations/Low Intensity Conflict) | Special Assistant for Special Operations and Combating Terrorism | DD180032 | 12/20/2017
| Office of the Secretary of Defense | Speechwriter | DD180034 | 12/21/2017
DEPARTMENT OF EDUCATION | Office of Communications and Outreach | Special Assistant | DB180013 | 12/01/2017
| Office of Career Technical and Adult Education | Confidential Assistant | DB180017 | 12/01/2017
| Office of Planning, Evaluation and Policy Development | Confidential Assistant | DB180020 | 12/19/2017
| Office of Legislation and Congressional Affairs | Special Assistant (Supervisory) | DB180025 | 12/21/2017
ENVIRONMENTAL PROTECTION AGENCY | Office of the Assistant Administrator for Land and Emergency Management | Senior Counsel for Land and Emergency Management | EP180021 | 12/20/2017
EXPORT-IMPORT BANK | Office of Communications | Senior Vice President for Communications | EB180003 | 12/08/2017
GENERAL SERVICES ADMINISTRATION | Office of Regional Administrators | Special Assistant | GS180006 | 12/21/2017
DEPARTMENT OF HEALTH AND HUMAN SERVICES | Office of Intergovernmental and External Affairs | Regional Director, Boston, Massachusetts, Region I | DH180023 | 12/15/2017
| Office of the Assistant Secretary for Financial Resources | Director of Strategic Projects and Policy Initiatives | DH180026 | 12/15/2017
| Office of the Secretary | Special Assistant for Advance | DH180034 | 12/18/2017
| Office of Centers for Medicare and Medicaid Services | Director of Strategic Communications | DH180025 | 12/20/2017
| Office of the Assistant Secretary for Public Affairs | Deputy Director of Speechwriting and Senior Advisor | DH180036 | 12/21/2017
DEPARTMENT OF HOMELAND SECURITY | Office of Transportation Security Administration | Senior Counselor | DM180054 | 12/18/2017
DEPARTMENT OF HOUSING AND URBAN DEVELOPMENT | Office of Field Policy and Management | Regional Administrator | DU180007 | 12/08/2017
DEPARTMENT OF THE INTERIOR | Secretary's Immediate Office | Counselor | DI180011 | 12/20/2017
DEPARTMENT OF JUSTICE | Office of Public Affairs | Media Affairs Specialist | DJ180036 | 12/12/2017
DEPARTMENT OF LABOR | Office of Public Affairs | Senior Speechwriter | DL180018 | 12/20/2017
| Office of the Assistant Secretary for Administration and Management | Senior Advisor Special Assistant | DL180024 DL180027 | 12/20/2017 12/21/2017
| Office of Public Engagement | Public Liaison | DL180030 | 12/20/2017
NATIONAL CREDIT UNION ADMINISTRATION | Office of Public and Congressional Affairs | Director, Public and Congressional Affairs | CU180001 | 12/01/2017
NATIONAL ENDOWMENT FOR THE HUMANITIES | Office of the Chairman | Special Assistant | NH180001 | 12/06/2017
OFFICE OF PERSONNEL MANAGEMENT | Office of the Director | Executive Assistant | PM180013 | 12/29/2017
SMALL BUSINESS ADMINISTRATION | Office of Field Operations | Regional Administrator, Region II Regional Administrator, Region I | SB180003 SB170066 | 12/01/2017 12/05/2017
DEPARTMENT OF STATE | Bureau of Overseas Buildings Operations | Special Assistant | DS180007 | 12/11/2017
| Office of the Under Secretary for Management | Special Assistant | DS180014 | 12/18/2017
| Office of Bureau of Counterterrorism | Special Assistant | DS180011 | 12/20/2017
| Office of Bureau of Public Affairs | Deputy Assistant Secretary for Strategic Communication | DS180012 | 12/20/2017

The following Schedule C appointing authorities were revoked during December 2017.

Agency name | Organization name | Title | Request No. | Date vacated
DEPARTMENT OF COMMERCE | Office of International Trade Administration | Confidential Assistant | DC170116 | 12/23/2017
DEPARTMENT OF DEFENSE | Office of Assistant Secretary of Defense (Public Affairs) | Speechwriter | DD170112 | 12/23/2017
DEPARTMENT OF HEALTH AND HUMAN SERVICES | Office of the Assistant Secretary for Preparedness and Response | Senior Advisor | DH170285 | 12/09/2017
| Office of the Assistant Secretary for Public Affairs | Special Assistant | DH170134 | 12/19/2017
DEPARTMENT OF HOMELAND SECURITY | Office of the Chief of Staff | Confidential Assistant (2) | DM170139 DM170169 | 12/02/2017 12/02/2017
|  | Special Assistant | DM170085 | 12/03/2017
DEPARTMENT OF LABOR | Office of Employment and Training Administration | Senior Advisor | DL170058 | 12/09/2017
| Office of the Secretary | Special Assistant | DL170125 | 12/16/2017
DEPARTMENT OF STATE | Office of Policy Planning | Special Assistant | DS170151 | 12/19/2017

Authority: 5 U.S.C. 3301 and 3302; E.O. 10577, 3 CFR, 1954-1958 Comp., p. 218.

U.S. Office of Personnel Management.
Jeff T.H. Pon,
Director.

[FR Doc. 2018-05845 Filed 3-21-18; 8:45 am]

BILLING CODE 6325-39-P